NUCLEAR REGULATORY COMMISSION

[Docket No. 55-32443-SP]

In the Matter of Michel A. Philippon (Denial of Senior Reactor Operator) License Application; Notice of Appointment of Adjudicatory Employee

Commissioners: Richard A. Meserve, Chairman, Greta J. Dicus, Nils J. Diaz, Edward McGaffigan, Jr., Jeffrey S. Merrifield.

Pursuant to 10 CFR 2.4, notice is hereby given that Mr. Richard Baldwin, a Commission employee in Region II, Division of Reactor Safety, Operator Licensing and Human Performance Branch, has been appointed as a Commission adjudicatory employee within the meaning of section 2.4, to advise the Commission regarding issues relating to the pending petition for review of the Presiding Officer's Initial Decision, LBP-99-44. Mr. Baldwin has not previously performed any investigative or litigating function in connection with this or any related proceeding. Until such time as a final decision is issued in this matter, interested persons outside the agency and agency employees performing investigative or litigating functions in this proceeding are required to observe the restrictions of 10 CFR 2.780 and 2.781 in their communications with Mr. Baldwin.

It is so ordered.

For the Commission.
Dated at Rockville, Maryland, this 2nd day of February, 2000.
Annette L. Vietti-Cook,
Secretary of the Commission.

[FR Doc. 00-2832 Filed 2-7-00; 8:45 am]

BILLING CODE 7590-01-P